DEPARTMENT OF TRANSPORTATION

Federal Aviation Administration

Twenty-Sixth (26th) Joint Meeting, RTCA Special Committee 189/EUROCAE Working Group 53: Air Traffic Services (ATS) Safety and Interoperability Requirements

AGENCY: Federal Aviation Administration (FAA), DOT.

ACTION: Notice of RTCA Special Committee 189/EUROCAE working Group 53 meeting.

SUMMARY: The FAA is issuing this notice to advise the public of a meeting of RTCA Special Committee 189/EUROCAE Working Group 53: Air Traffic Services (ATS) Safety and Interoperability Requirements.

DATES: The meeting will be held March 7-10, 2006, starting at 9 a.m.

ADDRESSES: The meeting will be held at EUROCAE, 102 rue Etienne Dolet 92240 Malakoff—FRANCE.

FOR FURTHER INFORMATION CONTACT: (1) RTCA Secretariat (Hal Moses), 1828 L Street, NW., Suite 805, Washington, DC 20036, (202) 833-9339; fax (202) 833-9434; Web site http;//www.rtca.org; (20) EUROCAE, Contact: Gilbert AMATO, Secretary General, Tel: +33 (0) 1 40 92 79 30, Fax: +33 (0) 1 46 55 62 65, E-mail: gilbert.amato@eurocae.com.

Security: Submit your name and company to serge.bagieu@airbus.com no later than February 3, 2006, to attend the meeting.

Info: Information on EUROCAE can be found at http;://www.eurocae.org/.

Hotels:

(1) Mercure Porte de Versailles Exp, 36-38 rue du Moulin, 92170 Vanves, Metro 12: Plateaude Vanves, Tel 33/1 46 48 55 55, Fax 33/1 46 48 56 56.

(2) Ibis Vanves Parc Despositions, 43 rue Jean Bleuzen 92170 Vanves, Metro 13: Platueu de Vanves, Tel: 33/1 40 95 80 00, Fax 33/1 40 35 96 99.

(3) Etap Porte Vanves, 110 rue Jean Bleuzen, 92170 Venves, Metro 12: Platueu de Vanves, tel: 33/892 68 07 23, Fax 33/1 50 95 33 54.

(4) Mercure Montparnassee, 20 rue de la Gaité, 75014 Paris, Metro 13: Gainté, Tel: 33/144 35 28 28, Fax 33/1 43 35 78 00.

(5) Ibis Maine Montparnassee, 160 rue du Chateau, 46014 Paris, Metro 13: Pernety Tel: 33/1 43 22 00 09, Fax: 33/1 43 20 21 78.

Dress: Business casual.

Directions: How to get to EUROCAE Premises at Malakoff EUROCAE Offices—102 rue Etienne Dolet 92240—MALAKOFF

From “Roissy-Charles De Gaulle” Airport (Travel Time: 60 to 75 Minutes)

• Take Airport shuttle to RER Station (located within the Airport).

• Take RER Line B to Denfert Rochereau.

• Take Metro Line 6 to Montparnasse Bienvenue.

• Take Metro Line 13 to Malakoff-Rue Etienne Dolet.

• Go on foot to 102, Rue Etienne Dolet (5-minute walk).

From “Gare Du Nord” Railway Station

• Take RER Line B to Denfert Rochereau and then as previously described (Metro lines 6 and 13).

From “Orly Airport”

• Take “Orlyval” train to Antony and then as previously described (RER line B then Metro lines 6 and 13).

• Or alternatively Take Air France bus Direction Invalides and leave at “Montparnasse” and then as previously described (Metro line 13). Additional information on directions and maps may be found by accessing the RTCA Web site http://www.rtca.org or contacting the RTCA Secretariat.

SUPPLEMENTARY INFORMATION: Pursuant to section 10(a)(2) of the Federal Advisory Committee Act (Pub. L. 92-463, 5 U.S.C., Appendix 2), notice is hereby given for a Special Committee 189/EUROCAE Working Group 53 meeting.

Meeting Objectives

• Resolve all comments on version 5.0 of PU-24, Oceanic Safety and Performance Requirements Standard.

• Complete and update all parts of PU-24: Complete section 9.2, Operational considerations for ADS application and Annex A, and update section 1 and appendices A, B and C, as necessary.

• Post PU-24, version 6 for final SC-189/WG-53 review.

• Resolve all comments on version H, PU-40, FANS 1/A-ATN Interoperability Requirements Standard.

• Progress material for PU-40 related to accommodating ATN Aircraft in FANS 1/A airspace.

The plenary agenda will include:

Tuesday, March 7, 2006 (9 a.m. to 5 p.m.)

• Opening Plenary Session (Welcome, Introductions, and Administrative Remarks, Review and approval of Agenda and Meeting Minutes) Administrative.

• SC-189/WG-53 co-chair progress report and review of work program.

• Determine and agree to breakout groups based on analysis of comments on PU-40 and PU24.

Mid-Morning Break (10:30 a.m.)

• Breakout groups, as agreed, and plenary debriefs, as necessary.

Wednesday and Thursday, March 8-9, 2006 (9 a.m. to 5 p.m.)

• Breakout groups, as agreed, and plenary debriefs, as necessary.

Friday, March 10, 2006 (9 a.m. to 1 p.m.)

• Debrief on progress for the week.

• Closing Plenary Session (Review schedule and new action items. Any other business, Adjourn).

Attendance is open to the interested public but limited to space availability. with the approval of the chairmen, members of the public may present oral statements at the meeting. Persons wishing to present statements or obtain information should contact the person listed in the FOR FURTHER INFORMATION CONTACT section. Members of the public may present a written statement to the committee at any time.

Issued in Washington, DC, on January 18, 2006.
Natalie Ogletree,
RTCA Advisory Committee.

[FR Doc. 06-861 Filed 1-30-06; 8:45 am]

BILLING CODE 4910-13-M